DEPARTMENT OF COMMERCE

International Trade Administration

[A-570-900]

Diamond Sawblades and Parts Thereof From the People's Republic of China: Preliminary Results of Antidumping Duty Administrative Review, Preliminary Determination of No Shipments, and Rescission of Review in Part; 2018-2019

AGENCY: Enforcement and Compliance, International Trade Administration, Department of Commerce.

SUMMARY: The Department of Commerce (Commerce) preliminarily determines that diamond sawblades and parts thereof from the People's Republic of China (China) were sold at less than normal value during the period of review (POR) November 1, 2018, through October 31, 2019. Interested parties are invited to comment on these preliminary results of review.

DATES: Applicable March 19, 2021.

FOR FURTHER INFORMATION CONTACT: Bryan Hansen or Thomas Schauer, AD/CVD Operations, Office I, Enforcement and Compliance, International Trade Administration, U.S. Department of Commerce, 1401 Constitution Avenue NW, Washington, DC 20230; telephone: (202) 482-3683 and (202) 482-0410, respectively.

SUPPLEMENTARY INFORMATION:

Background

On January 17, 2020, Commerce initiated the administrative review of the antidumping duty order on diamond sawblades and parts thereof from China.¹ The administrative review covers two mandatory respondents, Chengdu Huifeng New Material Technology Co., Ltd. (Chengdu Huifeng) and Wuhan Wanbang Laser Diamond Tools Co., Ltd. (Wuhan Wanbang).

¹ See Initiation of Antidumping and Countervailing Duty Administrative Reviews, 85 FR 3014 (January 17, 2020).

On April 24, 2020, Commerce tolled all deadlines in administrative reviews by 50 days, thereby tolling the deadline for the preliminary results of review.² On July 21, 2020, Commerce tolled all deadlines in administrative reviews by an additional 60 days, thereby tolling the deadline for the preliminary results of review until November 19, 2020.³ On October 19, 2020, Commerce extended the time limit for issuing the preliminary results of this review by 120 days, to no later than March 19, 2021.⁴

² See Memorandum, “Tolling of Deadlines for Antidumping and Countervailing Duty Administrative Reviews in Response to Operational Adjustments Due to COVID-19,” dated April 24, 2020.

³ See Memorandum, “Tolling of Deadlines for Antidumping and Countervailing Duty Administrative Reviews,” dated July 21, 2020.

⁴ See Memorandum, “Diamond Sawblades and Parts Thereof from the People's Republic of China: Extension of Time Limit for Preliminary Results of Antidumping Duty Administrative Review, 2018-2019,” dated October 19, 2020.

Scope of the Order

The merchandise subject to the antidumping duty order is diamond sawblades and parts thereof, which is typically imported under heading 8202.39.00.00 of the Harmonized Tariff Schedule of the United States (HTSUS). When packaged together as a set for retail sale with an item that is separately classified under headings 8202 to 8205 of the HTSUS, diamond sawblades or parts thereof may be imported under heading 8206.00.00.00 of the HTSUS. On October 11, 2011, Commerce included the 6804.21.00.00 HTSUS classification number to the customs case reference file, pursuant to a request by U.S. Customs and Border Protection (CBP). Pursuant to requests by CBP, Commerce included to the customs case reference file the following HTSUS classification numbers: 8202.39.0040 and 8202.39.0070 on January 22, 2015, and 6804.21.0010 and 6804.21.0080 on January 26, 2015.

While the HTSUS numbers are provided for convenience and customs purposes, the written description is dispositive. A full description of the scope of the order is contained in the Preliminary Decision Memorandum.⁵

⁵ See Memorandum, “Diamond Sawblades and Parts Thereof from the People's Republic of China: Decision Memorandum for the Preliminary Results of the Antidumping Duty Administrative Review; 2018-2019,” dated concurrently with, and hereby adopted by, this notice (Preliminary Decision Memorandum).

Preliminary Determination of No Shipments

Three companies that received a separate rate in previous segments of the proceeding and are subject to this review reported that they did not have any shipments of subject merchandise during the POR.⁶ We requested that CBP report any contrary information.⁷ To date, we have not received any contrary information from either CBP in response to our inquiry or any other sources that these companies had any shipments of the subject merchandise to the United States during the POR.⁸ Further, consistent with our practice, we find that it is not appropriate to rescind the review with respect to these companies, but rather to complete the review and issue appropriate instructions to CBP based on the final results of review.⁹

⁶ See Bosun Tools Co., Ltd.'s Letter, “Diamond Sawblades from the People's Republic of China Separate Rate Certification,” dated February 14, 2020; see also Danyang Weiwang Tools Manufacturing Co., Ltd.'s Letter, “Diamond Sawblades and Parts Thereof from the People's Republic of China: Submission of Statement of No Shipments,” dated February 14, 2020; and Weihai Xiangguang Mechanical Industrial Co., Ltd.'s Letter, “No Shipment Letter for Weihai Xiangguang Mechanical Industrial Co., Ltd.: Diamond Sawblades and Parts Thereof from the People's Republic of China (Review Period: 11/1/18-10/31/19),” dated February 14, 2020.

⁷ See CBP message numbers 0094406, 0094409, and 0094410, dated April 3, 2020 (ACCESS barcodes 3962143-01, 3962145-01, and 3962146-01).

⁸ See Preliminary Decision Memorandum at 3-4.

⁹ See, e.g., Certain Steel Threaded Rod from the People's Republic of China: Preliminary Results of the Antidumping Duty Administrative Review and Preliminary Determination of No Shipments; 2018-2019, 84 FR 71900 (December 30, 2019).

Rescission of Review in Part

Pursuant to 19 CFR 351.213(d)(1), Commerce will rescind an administrative review, in whole or in part, if the party that requested a review withdraws its request within 90 days of the date of publication of the notice of initiation. The request for an administrative review of Husqvarna (Hebei) Co., Ltd. was withdrawn within 90 days of the date of publication of the Initiation Notice.¹⁰ As a result, Commerce is rescinding this review with respect to this company in accordance with 19 CFR 351.213(d)(1).

¹⁰ See Diamond Sawblades Manufacturers' Coalition's Letter, “Diamond Sawblades and Parts Thereof from the People's Republic of China: Request to Withdraw Review of Certain Companies,” dated February 12, 2020; see also Husqvarna (Hebei) Co., Ltd.'s Letter, “Diamond Sawblades and Parts Thereof from the People's Republic Of China: Withdrawal of Request for Administrative Review,” dated February 13, 2020.

Separate Rates

Commerce preliminarily determines that four respondents are eligible to receive separate rates in this review.¹¹

¹¹ See Preliminary Decision Memorandum at “Separate Rates” section.

Separate Rate for Eligible Non-Selected Respondents

Commerce preliminarily determines that the respondents not selected for individual examination, the Jiangsu Fengtai Single Entity,¹² and Zhejiang Wanli Tools Group Co., Ltd. (Zhejiang Wanli), are eligible to receive a separate rate in the administrative review.¹³ Consistent with our practice, we assigned to the Jiangsu Fengtai Single Entity, and Zhejiang Wanli, as the separate rate for the preliminary results of this review, a simple average of the rate calculated for Chengdu Huifeng and the rate assigned to Wuhan Wanbang based entirely on facts otherwise available with an adverse inference.¹⁴

¹² Jiangsu Fengtai Diamond Tool Manufacture Co., Ltd., Jiangsu Fengtai Tools Co., Ltd., and Jiangsu Fengtai Sawing Industry Co., Ltd., comprise the Jiangsu Fengtai Single Entity. See Diamond Sawblades and Parts Thereof from the People's Republic of China: Final Results of Antidumping Duty Administrative Review; 2014-2015, 82 FR 26912, 26913 (June 12, 2017). We received review requests for Jiangsu Fengtai Diamond Tool Manufacture Co., Ltd., Jiangsu Fengtai Diamond Tools Co., Ltd., and Jiangsu Fengtai Tools Co., Ltd.

¹³ For more details, see Preliminary Decision Memorandum at 10-11.

¹⁴ Id.

China-Wide Entity

Under Commerce's policy regarding the conditional review of the China-wide entity,¹⁵ the China-wide entity will not be under review unless a party specifically requests, or Commerce self-initiates, a review of the entity. Because no party requested a review of the China-wide entity in this review, the entity is not under review, and the entity's rate (i.e., 82.05 percent) is not subject to change.¹⁶ Aside from the no-shipment and separate rate companies discussed above, Commerce considers all other companies for which a review was requested (which did not file a separate rate application) to be part of the China-wide entity.¹⁷

¹⁵ See Antidumping Proceedings: Announcement of Change in Department Practice for Respondent Selection in Antidumping Duty Proceedings and Conditional Review of the Nonmarket Economy Entity in NME Antidumping Duty Proceedings, 78 FR 65963 (November 4, 2013).

¹⁶ See, e.g., Diamond Sawblades and Parts Thereof from the People's Republic of China; Final Results of Antidumping Duty Administrative Review; 2012-2013, 80 FR 32344, 32345 (June 8, 2015).

¹⁷ See Initiation of Antidumping and Countervailing Duty Administrative Reviews, 85 FR 3014, 3019-20 (January 17, 2020) (“All firms listed below that wish to qualify for separate rate status in the administrative reviews involving NME countries must complete, as appropriate, either a separate rate application or certification, as described below”); see also Appendix II of this notice for a list of companies that are subject to this administrative review that are considered to be part of the China-wide entity.

Methodology

Commerce is conducting this review in accordance with section 751(a)(1)(B) and (a)(2) of the Tariff Act of 1930, as amended (the Act), and 19 CFR 351.213. Export price is calculated in accordance with section 772(c) of the Act. Because China is a non-market economy within the meaning of section 771(18) of the Act, normal value has been calculated in accordance with section 773(c) of the Act.

For a full description of the methodology underlying our conclusions, see the Preliminary Decision Memorandum. The Preliminary Decision Memorandum is a public document and is made available to the public via Enforcement and Compliance's Antidumping and Countervailing Duty Centralized Electronic Service System (ACCESS). ACCESS is available to registered users at https://access.trade.gov. In addition, a complete version of the Preliminary Decision Memorandum can be found at http://enforcement.trade.gov/frn/. A list of the topics discussed in the Preliminary Decision Memorandum is attached as Appendix I to this notice.

Preliminary Results of Administrative Review

We are assigning the following weighted-average dumping margins to the firms listed below for the period November 1, 2018, through October 31, 2019:

¹⁸ This rate is based on the simple average of the rates for the respondents that were selected for individual review as described in “Separate Rate for Eligible Non-Selected Respondents,” above.

Exporters | Weighted-average dumping\margin (percent)
Chengdu Huifeng New Material Technology Co., Ltd | 0.00
Wuhan Wanbang Laser Diamond Tools Co., Ltd | 82.05
Review-Specific Average Rate Applicable to the Following Companies: ¹⁸
Jiangsu Fengtai Single Entity | 41.03
Zhejiang Wanli Tools Group Co., Ltd | 41.03

Disclosure

We intend to disclose calculations performed in these preliminary results to parties within five days after public announcement of the preliminary results.¹⁹

¹⁹ See 19 CFR 351.224(b).

Public Comment

Pursuant to 19 CFR 351.309(c)(ii), interested parties may submit case briefs no later than 30 days after the date of publication of this notice.²⁰ Rebuttal briefs, limited to issues raised in the case briefs, may be filed no later than seven days after the date for filing case briefs.²¹ Commerce modified certain of its requirements for serving documents containing business proprietary information until further notice.²² Parties who submit case briefs or rebuttal briefs in this proceeding are encouraged to submit with each argument: (1) A statement of the issue; (2) a brief summary of the argument; and (3) a table of authorities.²³

²⁰ See 19 CFR 351.309(c).

²¹ See 19 CFR 351.309(d).

²² See Temporary Rule Modifying AD/CVD Service Requirements Due to COVID-19; Extension of Effective Period, 85 FR 41363 (July 10, 2020).

²³ See 19 CFR 351.309(c)(2) and (d)(2) and 19 CFR 351.303 (for general filing requirements).

Pursuant to 19 CFR 351.310(c), interested parties who wish to request a hearing must submit a written request to the Assistant Secretary for Enforcement and Compliance, U.S. Department of Commerce, filed electronically using ACCESS. Hearing requests should contain: (1) The party's name, address, and telephone number; (2) the number of participants; and (3) a list of issues to be discussed. Issues raised in the hearing will be limited to those raised in the respective case briefs. An electronically filed document must be received successfully in its entirety by ACCESS by 5:00 p.m. Eastern Time within 30 days after the date of publication of this notice.²⁴

²⁴ See 19 CFR 351.310(c).

Unless the deadline is extended, Commerce intends to issue the final results of these reviews, including the results of its analysis of issues raised by parties in their comments, within 120 days after the publication of these preliminary results, pursuant to section 751(a)(3)(A) of the Act and 19 CFR 351.213(h).

Assessment Rates

Upon issuing the final results, Commerce will determine, and CBP shall assess, antidumping duties on all appropriate entries covered by this review.²⁵ If a respondent's weighted-average dumping margin is above de minimis (i.e., 0.50 percent) in the final results of this review, we will calculate an importer-specific assessment rate on the basis of the ratio of the total amount of dumping calculated for each importer's examined sales and, where possible, the total entered value of those same sales in accordance with 19 CFR 351.212(b)(1).²⁶ Where an importer- (or customer-) specific ad valorem rate is zero or de minimis, we will instruct CBP to liquidate appropriate entries without regard to antidumping duties.²⁷

²⁵ See 19 CFR 351.212(b)(1).

²⁶ See Antidumping Proceedings: Calculation of the Weighted-Average Dumping Margin and Assessment Rate in Certain Antidumping Proceedings: Final Modification, 77 FR 8101, 8103 (February 14, 2012).

²⁷ See 19 CFR 351.106(c)(2).

For entries that were not reported in the U.S. sales databases submitted by exporters individually examined during this review, Commerce will instruct CBP to liquidate such entries at the China-wide rate. If Commerce determines that an exporter under review had no shipments of the subject merchandise, any suspended entries that entered under that exporter's case number (i.e., at that exporter's rate) will be liquidated at the China-wide rate.²⁸

²⁸ See Non-Market Economy Antidumping Proceedings: Assessment of Antidumping Duties, 76 FR 65694, 65695 (October 24, 2011).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of these reviews for shipments of the subject merchandise from China entered, or withdrawn from warehouse, for consumption on or after the publication date, as provided by section 751(a)(2)(C) of the Act: (1) For the subject merchandise exported by the companies listed above that have separate rates, the cash deposit rate will be that established in the final results of review (except, if the rates are zero, de minimis, or based entirely on AFA, then the cash deposit to be required will be the simple average of the rates we determine for the final results); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping duties prior to liquidation of the relevant entries during these PORs. Failure to comply with this requirement could result in Commerce's presumption that reimbursement of antidumping duties occurred and the subsequent assessment of double antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing the preliminary results of this review in accordance with sections 751(a)(1)(B), 751(a)(3) and 777(i) of the Act, and 19 CFR 351.213 and 351.221(b)(4).

Dated: March 15, 2021.
Christian Marsh,
Acting Assistant Secretary for Enforcement and Compliance.

Appendix I

List of Topics Discussed in the Preliminary Decision Memorandum

I. Summary

II. Background

III. Scope of the Order

IV. Preliminary Determination of No Shipments

V. Discussion of the Methodology

VI. Currency Conversion

VII. Recommendation

Appendix II

Companies Preliminarily Not Eligible for a Separate Rate and Treated as Part of the China-Wide Entity

1. ASHINE Diamond Tools Co., Ltd.

2. Danyang City Ou Di Ma Tools Co., Ltd.

3. Danyang Hantronic Import & Export Co., Ltd.

4. Danyang Huachang Diamond Tools Manufacturing Co., Ltd.

5. Danyang Like Tools Manufacturing Co., Ltd.

6. Danyang NYCL Tools Manufacturing Co., Ltd.

7. Danyang Tsunda Diamond Tools Co., Ltd.

8. Guilin Tebon Superhard Material Co., Ltd.

9. Hangzhou Deer King Industrial and Trading Co., Ltd.

10. Hangzhou Kingburg Import & Export Co., Ltd.

11. Hebei XMF Tools Group Co., Ltd.

12. Henan Huanghe Whirlwind Co., Ltd.

13. Henan Huanghe Whirlwind International Co., Ltd.

14. Hong Kong Hao Xin International Group Limited

15. Hubei Changjiang Precision Engineering Materials Technology Co., Ltd.

16. Hubei Sheng Bai Rui Diamond Tools Co., Ltd.

17. Huzhou Gu's Import & Export Co., Ltd.

18. Jiangsu Huachang Diamond Tools Manufacturing Co., Ltd.

19. Jiangsu Inter-China Group Corporation

20. Jiangsu Youhe Tool Manufacturer Co., Ltd.

21. Orient Gain International Limited

22. Pantos Logistics (HK) Company Limited

23. Pujiang Talent Diamond Tools Co., Ltd.

24. Qingdao Hyosung Diamond Tools Co., Ltd.

25. Qingyuan Shangtai Diamond Tools Co., Ltd.

26. Qingdao Shinhan Diamond Industrial Co., Ltd.

27. Quanzhou Zhongzhi Diamond Tool Co., Ltd.

28. Rizhao Hein Saw Co., Ltd.

29. Saint-Gobain Abrasives (Shanghai) Co., Ltd.

30. Shanghai Jingquan Industrial Trade Co., Ltd.

31. Shanghai Starcraft Tools Co., Ltd.

32. Sino Tools Co., Ltd.

33. Wuhan Baiyi Diamond Tools Co., Ltd.

34. Wuhan Sadia Trading Co., Ltd.

35. Wuhan ZhaoHua Technology Co., Ltd.

36. Xiamen ZL Diamond Technology Co., Ltd.

37. ZL Diamond Technology Co., Ltd.

38. ZL Diamond Tools Co., Ltd.

[FR Doc. 2021-05741 Filed 3-18-21; 8:45 am]

BILLING CODE 3510-DS-P